DEPARTMENT OF THE TREASURY

Customs Service

[T.D. 01-75]

Cancellation of Customs Broker Licenses

AGENCY: U.S. Customs Service, Department of the Treasury.

ACTION: Cancellation of licenses.

SUMMARY: Notice is hereby given that, pursuant to 19 CFR 111.51(a), the following Customs broker licenses have been cancelled due to death of the broker. Because previous publication of some records cannot be readily verified, the records are now being published to ensure Customs compliance with administrative requirements.

Last name | First name | License | Port name
Bellack | Paul G | 05425 | Baltimore
Diaz | Yolanda | 07119 | Miami
Favro | Noel J | 04340 | Champlain
Joffroy, Sr | William F | 02478 | Nogales
Knipper | Abe M | 03581 | New York
Liebert | Carl F | 02707 | Seattle
Loudon | James V | 02614 | Los Angeles
Meuter | Walter F | 02158 | Cleveland
Pepper | Harold I | 03584 | New York
Perez | Jose Antonio | 06805 | Miami
Rodriguez | Alfreco | 11724 | Miami
Soto | Alfonso X | 05278 | Laredo

Dated: September 30, 2001.
Bonni G. Tischler,
Assistant Commissioner, Office of Field Operations.

[FR Doc. 01-25374 Filed 10-9-01; 8:45 am]

BILLING CODE 4820-02-P